INTERNATIONAL TRADE COMMISSION

[USITC SE-16-043]

Government in the Sunshine Act Meeting Notice

AGENCY HOLDING THE MEETING: United States International Trade Commission.

TIME AND DATE: December 30, 2016 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-565 and 731-TA-1341 (Preliminary) (Hardwood Plywood from China). The Commission is currently scheduled to complete and file its determinations on January 3, 2017; views of the Commission are currently scheduled to be completed and filed on January 10, 2017.

5. Outstanding action jackets: None.

In accordance with Commission policy, subject matter listed above, not disposed of at the scheduled meeting, may be carried over to the agenda of the following meeting.

By order of the Commission.
Issued: December 19, 2016.
William R. Bishop,
Supervisory Hearings and Information Officer.

[FR Doc. 2016-31021 Filed 12-20-16; 4:15 pm]

BILLING CODE 7020-02-P